DEPARTMENT OF HEALTH AND HUMAN SERVICES

Administration on Aging

Agency Information Collection Activities; Proposed Collection; Comment Request; Certification of Maintenance of Effort Form Title III of the Older Americans Act, Grants for State and Community Programs on Aging

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to certification of maintenance of effort form Title III of the Older Americans Act, Grants for State and Community Programs on Aging.

DATES: Submit written or electronic comments on the collection of information by May 30, 2002.

ADDRESSES: Submit electronic comments on the collection of information to: www.mtolson@aoa.gov. Submit written comments on the collection of information to Administration on Aging, 330 Independence Avenue, SW., Washington, DC 20201.

FOR FURTHER INFORMATION CONTACT: Margaret A. Tolson at (202) 401-0838.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Certification of Maintenance of Effort form will be used by the Administration on Aging to verify the amount of State expenditures for Title III of the Older Americans Act, and make comparisons with such expenditures for the three previous years to assure that the State Agency on Aging is in compliance with 45 CFR 1321.49.

This information will be used for federal oversight of the Title III program. AoA estimates the burden of this collection of information as follows: ½ hour per State Agency on Aging annually, for a total of 28 hours.

Dated: March 7, 2003.
Josefina G. Carbonell,
Assistant Secretary for Aging.

[FR Doc. 02-5856 Filed 3-11-02; 8:45 am]

BILLING CODE 4154-01-P